DEPARTMENT OF HEALTH AND HUMAN SERVICES

Centers for Disease Control and Prevention

[60 Day-00-40]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques for other forms of information technology. Send comments to Seleda Perryman, CDC-Assistant Reports Clearance Officer, 1600 Clifton Road, MS-D24, Atlanta, GA 30333. Written comments should be received within 60 days of this notice.

Proposed Project

Exposure to Aerosolized Brevetoxins During Red Tide Events—New—National Center for Environmental Health (NCEH). Gymnodinium breve is the marine dinoflagellate responsible for extensive blooms (called red tides) that form in the gulf of Mexico. G. breve produces potent toxins, called brevetoxins, that have been responsible for killing millions of fish and other marine organisms. The biochemical activity of brevetoxins is not completely understood and there is very little information regarding human health effects from environmental exposures, such as inhaling brevetoxin that has been aerosolized and swept onto the coast by offshore winds. The National Center for Environmental Health (NCEH), Centers for Disease Control and Prevention (CDC) is planning to recruit 100 people who work along the coast of Florida and who potentially will be occupationally exposed to aerosolized red tide toxins some time during the year following recruitment.

NCEH plans on administering a base-line respiratory health questionnaire and conducting pre- and post-shift pulmonary function tests during a time when there is no red tide reported near the area. When a red tide develops, we plan to administer a symptom survey and conduct pulmonary function testing (PFT) on a group of study participants who are working in the area where the red tide is near shore, and on a control group of study participants who are not working in an area where the red tide is near shore (i.e., are not exposed to the red tide). We will then compare (1) symptom reports before and during the red tide and (2) the changes in baseline PFT values during the work shift (differences between pre- and post-shift PFT results without exposure to red tide) with the changes in PFT values during the work shift when individuals are exposed to red tide. In addition, we plan to assist in collecting biological specimens (inflammatory cells from nose and throat swabs) to assess whether they can be used to verify exposure and to demonstrate a biological effect (i.e., inflammatory response) from exposure to red tide. There are no costs to respondents.

Respondents | No. of respondents | No. of responses per respondent | Average burden per response (in hrs.) | Total burden
Pulmonary History Questionnaire | 100 | 1 | 20/60 | 33
Symptom Questionnaire | 100 | 20 | 5/60 | 167
Nasal and throat swabs | 100 | 20 | 5/60 | 167
Pulmonary Function Tests | 100 | 20 | 20/60 | 667
Total |  |  |  | 1034

Dated: June 12, 2000.
Kathy Cahill,
Associate Director for Policy, Planning, and Evaluation, Centers for Disease Control and Prevention (CDC).

[FR Doc. 00-15253 Filed 6-15-00; 8:45 am]

BILLING CODE 4163-18-P